DEPARTMENT OF HEALTH AND HUMAN SERVICES

Centers for Disease Control and Prevention

[30Day-08-07AM]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Study to Examine Web-Based Administration of the Youth Risk Behavior Survey—New—National Center for Chronic Disease Prevention and Health Promotion (NCCDPHP), Centers for Disease Control and Prevention (CDC).

Background and Brief Description

The Youth Risk Behavior Survey (YRBS) has been conducted biennially since 1991 using paper-and-pencil questionnaires in schools. Because of technological improvements in survey research methods, CDC is considering changing to web-based administration of the YRBS. Because YRBS is the only national source of data for at least 10 national health objectives in Healthy People 2010, it is critical to understand (1) Whether it is feasible to change to web-based administration, and (2) how a change to web-based administration, both with and without the use of skip patterns in the questionnaire, might affect prevalence estimates of the priority health risk behaviors reported in the YRBS.

CDC is proposing an information collection to address these issues. The first data collection will be a questionnaire administered to approximately 600 U.S. high school principals to assess perceptions of the feasibility and acceptability of using web-based data collection methods for student surveys and assessments. The second data collection will be a questionnaire similar to the YRBS questionnaire administered to a convenience sample of 9th and 10th grade students attending schools in the United States. Respondents for the student data collection include students (n=6,000) who receive instructions for and complete the student questionnaire, school administrators (n=80) who provide information in the School Recruitment Script for the student questionnaire, and teachers (n=320) who complete the Data Collection Checklist for the student questionnaire. In the student data collection, students will be assigned randomly to one of four conditions: (1) Paper-and-pencil questionnaire in regular classroom, (2) web-based questionnaire in computer lab without programmed skip patterns, (3) web-based questionnaire in computer lab with programmed skip patterns, and (4) web-based questionnaire without programmed skip patterns completed at any computer of the student's choosing.

There are no costs to respondents except their time to participate in the survey and, in the case of school contacts and teachers, to assist in school recruitment. The estimated annualized burden hours are 4,813.

Estimated Annualized Burden Hours
Respondents | Form name | Number of respondents | Number of responses per respondent | Average burden per response (in hours)
Principals | Principal Survey of the Feasibility and Acceptability of Web-based Student Assessments and Surveys | 600 | 1 | 20/60
School Administrators | School Recruitment Script for the Student Health Survey | 80 | 1 | 25/60
Teachers | Data Collection Checklist for the Student Health Survey | 320 | 1 | 15/60
Students | Student Health Survey | 6,000 | 1 | 45/60

Dated: October 2, 2007.
Maryam I. Daneshvar,
Acting Reports Clearance Officer, Centers for Disease Control and Prevention.

[FR Doc. E7-19800 Filed 10-5-07; 8:45 am]

BILLING CODE 4163-18-P